DEPARTMENT OF DEFENSE

GENERAL SERVICES ADMINISTRATION

NATIONAL AERONAUTICS AND SPACE ADMINISTRATION

48 CFR Ch. 1

Semiannual Regulatory Agenda

AGENCY: Department of Defense (DoD), General Services Administration (GSA), and National Aeronautics and Space Administration (NASA).

ACTION: Semiannual regulatory agenda.

SUMMARY: This agenda provides summary descriptions of regulations being developed by the Civilian Agency Acquisition Council and the Defense Acquisition Regulations Council in compliance with Executive Order 12866 “Regulatory Planning and Review.” This agenda is being published to allow interested persons an opportunity to participate in the rulemaking process.

The Regulatory Secretariat Division has attempted to list all regulations pending at the time of publication, except for minor and routine or repetitive actions; however, unanticipated requirements may result in the issuance of regulations that are not included in this agenda. There is no legal significance to the omission of an item from this listing.

Published proposed rules may be reviewed in their entirety at the Government's rulemaking Web site at http://www.regulations.gov.

FOR FURTHER INFORMATION CONTACT: Hada Flowers, Division Director, Regulatory Secretariat Division, 1800 F Street NW., Washington, DC 20405, or via telephone at 202-501-4755.

SUPPLEMENTARY INFORMATION: DoD, GSA, and NASA, under their several statutory authorities, jointly issue and maintain the FAR through periodic issuance of changes published in the Federal Register and produced electronically as Federal Acquisition Circulars (FACs). The electronic version of the FAR, including changes, can be accessed on the FAR Web site at http://www.acquisition.gov/far.

Dated: March 30, 2015.
William Clark,
Director, Office of Government-wide Acquisition Policy, Office of Acquisition Policy, Office of Government-wide Policy.

DOD/GSA/NASA (FAR)—Proposed Rule Stage
Sequence No. | Title | Regulation Identifier No.
248 | Federal Acquisition Regulation (FAR); FAR Case 2014-025; Fair Pay and Safe Workplaces | 9000-AM81
249 | Federal Acquisition Regulation (FAR); FAR Case 2014-026; High Global Warming Potential Hydrofluorocarbons | 9000-AM87
250 | Federal Acquisition Regulation (FAR); FAR Case 2014-003; Small Business Subcontracting Improvements | 9000-AM91
251 | Federal Acquisition Regulation (FAR); FAR Case 2014-015; Consolidation of Contract Requirements and Bundling | 9000-AM92

DOD/GSA/NASA (FAR)—Final Rule Stage
Sequence No. | Title | Regulation Identifier No.
252 | Federal Acquisition Regulation (FAR); FAR Case 2011-001; Organizational Conflicts of Interest and Unequal Access to Information | 9000-AL82
253 | Federal Acquisition Regulation (FAR); FAR Case 2010-013; Privacy Training | 9000-AM02
254 | Federal Acquisition Regulation (FAR); FAR Case 2011-020; Basic Safeguarding of Contractor Information Systems | 9000-AM19
255 | Federal Acquisition Regulation (FAR); FAR Case 2013-015; Pilot Program for Enhancement of Contractor Employee Whistleblower Protections | 9000-AM56
256 | Federal Acquisition Regulation (FAR); FAR Case 2012-022; Contracts Under the Small Business Administration 8(a) Program | 9000-AM68
257 | Federal Acquisition Regulation (FAR); FAR Case 2013-016; EPEAT Items | 9000-AM71
258 | Federal Acquisition Regulation (FAR); FAR Case 2013-020; Information on Corporate Contractor Performance and Integrity | 9000-AM74
259 | Federal Acquisition Regulation (FAR); FAR Case 2014-012; Limitation on Allowable Government Contractor Compensation Costs | 9000-AM75
260 | Federal Acquisition Regulation (FAR); FAR Case 2014-022; Inflation Adjustment of Acquisition—Related Thresholds | 9000-AM80
261 | Federal Acquisition Regulation (FAR); FAR Case 2015-003; Establishing a Minimum Wage for Contractors | 9000-AM82
262 | Federal Acquisition Regulation (FAR); FAR Case 2014-020; Clarification on Justification for Urgent Noncompetitive Awards Exceeding One Year | 9000-AM86
263 | Federal Acquisition Regulation (FAR); FAR Case 2015-014; Prohibition on Providing Funds to the Enemy | 9000-AN03
264 | Federal Acquisition Regulation (FAR); FAR Case 2015-012; Contractor Employee Internal Confidentiality Agreements | 9000-AN04
265 | Federal Acquisition Regulation (FAR); FAR Case 2015-011; Prohibition on Contracting With Corporations With Delinquent Taxes or a Felony Conviction | 9000-AN05

DOD/GSA/NASA (FAR)—Completed Actions
Sequence No. | Title | Regulation Identifier No.
266 | Federal Acquisition Regulation (FAR); FAR Case 2009-009; American Recovery and Reinvestment Act of 2009 (the Recovery Act)—Reporting Requirements | 9000-AL21
267 | Federal Acquisition Regulation (FAR); FAR Case 2010-008; Recovery Act Subcontract Reporting Procedures | 9000-AL63
268 | Federal Acquisition Regulation (FAR); FAR Case 2013-001; Ending Trafficking in Persons | 9000-AM55
269 | Federal Acquisition Regulation (FAR); FAR Case 2012-032; Higher-Level Contract Quality Requirements | 9000-AM65
270 | Federal Acquisition Regulation (FAR); FAR Case 2014-006; Year Format | 9000-AM72
271 | Federal Acquisition Regulation (FAR); FAR Case 2014-001; Incorporating Section K in Contracts | 9000-AM78

DEPARTMENT OF DEFENSE/GENERAL SERVICES ADMINISTRATION/NATIONAL AERONAUTICS AND SPACE ADMINISTRATION (FAR)

Proposed Rule Stage

248. Federal Acquisition Regulation (FAR); FAR Case 2014-025; Fair Pay and Safe Workplaces

Legal Authority: 40 U.S.C. 121(c); 10 U.S.C. ch 137; 51 U.S.C. 20113

Abstract: DoD, GSA, and NASA are issuing a proposed rule amending the Federal Acquisition Regulation which implements Executive Order 13673, Fair Pay and Safe Workplaces, seeks to increase efficiency in the work performed by Federal contractors by ensuring that they understand and comply with labor laws designed to promote safe, healthy, fair and effective workplaces.

Timetable:

Action | Date | FR Cite
NPRM | 05/00/15 |

Regulatory Flexibility Analysis Required: Yes.

Agency Contact: Edward Loeb, Program Manager, DOD/GSA/NASA (FAR), 1800 F Street NW., Washington, DC 20405, Phone: 202 501-0650, Email: edward.loeb@gsa.gov

RIN: 9000-AM81

249. • Federal Acquisition Regulation (FAR); FAR Case 2014-026; High Global Warming Potential Hydrofluorocarbons

Legal Authority: 40 U.S.C. 121(c); 10 U.S.C. ch 137; 51 U.S.C. 20113

Abstract: DoD, GSA, and NASA are proposing to amend the Federal Acquisition Regulation (FAR) to implement Executive Branch policy in the President's Climate Action Plan to procure, when feasible, alternatives to high global warming potential (GWP) hydrofluorocarbons (HFCs). This will allow agencies to better meet the greenhouse gas emission reduction goals and reporting requirements of the Executive Order 13693 of March 25, 2015, Planning for Sustainability in the Next Decade. Executive Order 13693 subsumes both Executive Order 13423 of January 24, 2007, Strengthening Federal Environmental, Energy, and Transportation Management as well as Executive Order 13514 of October 5, 2009, Federal Leadership in Environmental, Energy, and Economic Performance.

Timetable:

Action | Date | FR Cite
NPRM | 05/11/15 | 80 FR 26883
NPRM Comment Period End | 07/10/15 |

Regulatory Flexibility Analysis Required: Yes.

Agency Contact: Charles Gray, Procurement Analyst, DOD/GSA/NASA (FAR), 1800 F Street NW., Washington, DC 20405 Phone: 202 208-6726.

RIN: 9000-AM87

250. • Federal Acquisition Regulation (FAR); FAR Case 2014-003; Small Business Subcontracting Improvements

Legal Authority: 40 U.S.C. 121(c); 10 U.S.C. ch 137; 51 U.S.C. 20113

Abstract: DoD, GSA, and NASA are proposing to amend the Federal Acquisition Regulation (FAR) to implement regulatory changes made by the Small Business Administration (SBA) in its final rule, concerning small business subcontracting. Among other things, SBA's final rule implements the statutory requirements set forth at sections 1321 and 1322 of the Small Business Jobs Act of 2010. This case is included in the FAR retrospective review of existing regulations under Executive Order 13563. Additional information is located in the FAR final plan (2015), available at: https://www.acquisition.gov/.

Timetable:

Action | Date | FR Cite
NPRM | 06/00/15 |

Regulatory Flexibility Analysis Required: Yes.

Agency Contact: Mahruba Uddowla, Procurement Analyst, DOD/GSA/NASA (FAR), 1800 F Street NW., Washington, DC 20405, Phone: 703 605-2868, Email: mahruba.uddowla@gsa.gov.

RIN: 9000-AM91

251. • Federal Acquisition Regulation (FAR); FAR Case 2014-015; Consolidation of Contract Requirements and Bundling

Legal Authority: 40 U.S.C. 121(c); 10 U.S.C. ch 137; 51 U.S.C. 20113

Abstract: DoD, GSA, and NASA are proposing to amend the Federal Acquisition Regulation (FAR) to implement section 1313 of the Small Business Jobs Act of 2010 and Small Business Administration's final rule to ensure that decisions made by Federal agencies regarding consolidation of contract requirements are made with a view to providing small businesses with appropriate opportunities to participate as prime and subcontractors. This case is included in the FAR retrospective review of existing regulations under Executive Order 13563. Additional information is located in the FAR final plan (2015), available at: https://www.acquisition.gov/.

Timetable:

Action | Date | FR Cite
NPRM | 07/00/15 |

Regulatory Flexibility Analysis Required: Yes.

Agency Contact: Mahruba Uddowla, Procurement Analyst, DOD/GSA/NASA (FAR), 1800 F Street NW., Washington, DC 20405, Phone: 703 605-2868, Email: mahruba.uddowla@gsa.gov

RIN: 9000-AM92

DEPARTMENT OF DEFENSE/GENERAL SERVICES ADMINISTRATION/NATIONAL AERONAUTICS AND SPACE ADMINISTRATION (FAR)

Final Rule Stage

252. Federal Acquisition Rregulation (FAR); FAR Case 2011-001; Organizational Conflicts of Interest and Unequal Access to Information

Legal Authority: 40 U.S.C. 121(c); 10 U.S.C. ch 137; 51 U.S.C. 20113

Abstract: DoD, GSA, and NASA are amending the Federal Acquisition Regulation (FAR) to provide revised regulatory coverage on organizational conflicts of interest (OCIs), and add related provisions and clauses. Coverage on contractor access to protected information has been moved to a new proposed rule, FAR Case 2012-029 now FAR Case 2014-021. Section 841 of the Duncan Hunter National Defense Authorization Act for Fiscal Year 2009 (Pub. L. 110-417) required a review of the FAR coverage on OCIs. The proposed rule was developed as a result of a review conducted in accordance with section 841 by the Civilian Agency Acquisition Council, the Defense Acquisition Regulations Council, and the Office of Federal Procurement Policy, in consultation with the Office of Government Ethics. The proposed rule was preceded by an Advance Notice of Proposed Rulemaking, under FAR Case 2007-018 (73 FR 15962), to gather comments from the public with regard to whether and how to improve the FAR coverage on OCIs. This case is included in the FAR retrospective review of existing regulations under Executive Order 13563. Additional information is located in the FAR final plan (2015), available at: https://www.acquisition.gov/.

Timetable:

Action | Date | FR Cite
NPRM | 04/26/11 | 76 FR 23236
NPRM Comment Period End | 06/27/11 |
NPRM Comment Period Extended | 06/29/11 | 76 FR 38089
NPRM Comment Period Extended End | 07/27/11 |
Final Rule | 09/00/15 |

Regulatory Flexibility Analysis Required: Yes.

Agency Contact: Cecelia L. Davis, Procurement Analyst, DOD/GSA/NASA (FAR), 1800 F Street NW., Washington, DC 20405, Phone: 202 219-0202, Email: cecelia.davis@gsa.gov.

RIN: 9000-AL82

253. Federal Acquisition Regulation (FAR); FAR Case 2010-013; Privacy Training

Legal Authority: 40 U.S.C. 121(c); 10 U.S.C. ch 137; 51 U.S.C. 20113

Abstract: DoD, GSA, and NASA are proposing to amend the Federal Acquisition Regulation (FAR) to ensure that all contractors are required to complete training in the protection of privacy and the handling and safeguarding of Personally Identifiable Information (PII). The proposed FAR language provides flexibility for agencies to conduct the privacy training or require the contractor to conduct the privacy training. This case is included in the FAR retrospective review of existing regulations under Executive Order 13563. Additional information is located in the FAR final plan (2015), available at: https://www.acquisition.gov/.

Timetable:

Action | Date | FR Cite
NPRM | 10/14/11 | 76 FR 63896
NPRM Comment Period End | 12/13/11 |
Final Rule | 07/00/15 |

Regulatory Flexibility Analysis Required: Yes.

Agency Contact: Charles Gray, Procurement Analyst, DOD/GSA/NASA (FAR), 1800 F Street NW., Washington, DC 20405, Phone: 202 208-6726.

RIN: 9000-AM02

254. Federal Acquisition Regulation (FAR); FAR Case 2011-020; Basic Safeguarding of Contractor Information Systems

Legal Authority: 40 U.S.C. 121(c); 10 U.S.C. ch 137; 51 U.S.C. 20113

Abstract: DoD, GSA, and NASA are amending the Federal Acquisition Regulation (FAR) to add a new subpart and contract clause for the safeguarding of contractor information systems that contain information provided by the Government (other than public information) or generated for the Government that will be resident on or transiting through contractor information systems. This case is included in the FAR retrospective review of existing regulations under Executive Order 13563. Additional information is located in the FAR final plan (2015), available at: https://www.acquisition.gov/.

Timetable:

Action | Date | FR Cite
NPRM | 07/26/12 | 77 FR 51496
NPRM Comment Period End | 10/23/12 |
Final Rule | 08/00/15 |

Regulatory Flexibility Analysis Required: Yes.

Agency Contact: Cecelia L. Davis, Procurement Analyst, DOD/GSA/NASA (FAR), 1800 F Street NW., Washington, DC 20405, Phone: 202 219-0202, Email: cecelia.davis@gsa.gov.

RIN: 9000-AM19

255. Federal Acquisition Regulation (FAR); FAR Case 2013-015; Pilot Program for Enhancement of Contractor Employee Whistleblower Protections

Legal Authority: 40 U.S.C. 121(c); 10 U.S.C. ch 137; 51 U.S.C. 20113

Abstract: DoD, GSA, and NASA are amending the Federal Acquisition Regulation to implement a statutory pilot program whistleblower protections for enhancement of contractor employee.

Timetable:

Action | Date | FR Cite
Interim Final Rule | 09/30/13 | 78 FR 60169
Interim Final Rule Comment Period End | 11/29/13
Final Rule | 08/00/15

Regulatory Flexibility Analysis Required: Yes.

Agency Contact: Cecelia L. Davis, Procurement Analyst, DOD/GSA/NASA (FAR), 1800 F Street NW., Washington, DC 20405, Phone: 202 219-0202, Email: cecelia.davis@gsa.gov.

RIN: 9000-AM56

256. Federal Acquisition Regulation (FAR); FAR Case 2012-022; Contracts Under the Small Business Administration 8(a) Program

Legal Authority: 40 U.S.C. 121(c); 10 U.S.C. ch 137; 51 U.S.C. 20113

Abstract: DoD, GSA, and NASA issued a proposed rule to amend the Federal Acquisition Regulation (FAR) to implement revisions made by the Small Business Administration to its regulations implementing section 8(a) of the Small Business Act, and to provide additional FAR coverage regarding protesting an 8(a) participant's eligibility or size status, procedures for releasing a requirement for non-8(a) procurements, and the ways a participant could exit the 8(a) Business Development program.

Timetable:

Action | Date | FR Cite
NPRM | 02/03/14 | 79 FR 6135
NPRM Comment Period End | 04/14/14
Final Rule | 08/00/15

Regulatory Flexibility Analysis Required: Yes.

Agency Contact: Mahruba Uddowla, Procurement Analyst, DOD/GSA/NASA (FAR), 1800 F Street NW., Washington, DC 20405, Phone: 703 605-2868, Email: mahruba.uddowla@gsa.gov.

RIN: 9000-AM68

257. Federal Acquisition Regulation (FAR); FAR Case 2013-016; EPEAT Items

Legal Authority: 40 U.S.C. 121(c); 10 U.S.C. ch 137; 51 U.S.C. 20113

Abstract: DoD, GSA, and NASA issued an interim rule amending the Federal Acquisition Regulation to implement changes in the Electronic Product Environmental Assessment Tool (EPEAT®) registry.

Timetable:

Action | Date | FR Cite
Interim Final Rule | 06/24/14 | 79 FR 35859
Interim Final Rule Comment Period End | 08/25/14
Final Rule | 07/00/15

Regulatory Flexibility Analysis Required: Yes.

Agency Contact: Charles Gray, Procurement Analyst, DOD/GSA/NASA (FAR), 1800 F Street NW., Washington, DC 20405, Phone: 202 208-6726.

RIN: 9000-AM71

258. Federal Acquisition Regulation (FAR); FAR Case 2013-020; Information on Corporate Contractor Performance and Integrity

Legal Authority: 40 U.S.C. 121(c); 10 U.S.C. ch 137; 51 U.S.C. 20113

Abstract: DoD, GSA, and NASA are amending the Federal Acquisition Regulation to implement a section of the National Defense Authorization Act for Fiscal Year 2013 to include in the Federal Awardee Performance and Integrity Information System, to the extent practicable, identification of any immediate owner or subsidiary, and all predecessors of an offeror that held a Federal contract or grant within the last three years. The objective is to provide a more comprehensive understanding of the performance and integrity of the corporation in awarding Federal contracts.

Timetable:

Action | Date | FR Cite
NPRM | 12/04/14 | 79 FR 71975
NPRM Comment Period End | 02/02/15
Final Rule | 08/00/15

Regulatory Flexibility Analysis Required: Yes.

Agency Contact: Cecelia L. Davis, Procurement Analyst, DOD/GSA/NASA (FAR), 1800 F Street NW., Washington, DC 20405, Phone: 202 219-0202, Email: cecelia.davis@gsa.gov.

RIN: 9000-AM74

259. Federal Acquisition Regulation (FAR); FAR Case 2014-012; Limitation on Allowable Government Contractor Compensation Costs

Legal Authority: 40 U.S.C. 121(c); 10 U.S.C. ch 137; 51 U.S.C. 20113

Abstract: DoD, GSA and NASA issued an interim rule amending the Federal Acquisition Regulation to implement section 702 of the Bipartisan Budget Act of 2013. In accordance with section 702, the interim rule revises the allowable cost limit relative to the compensation of contractor and subcontractor employees. Also, in accordance with section 702, this interim rule implements the possible exception to this allowable cost limit for narrowly targeted scientists, engineers, or other specialists upon an agency determination that such exceptions are needed to ensure that the executive agency has continued access to needed skills and capabilities.

Timetable:

Action | Date | FR Cite
Interim Final Rule | 06/24/14 | 79 FR 35865
Interim Final Rule Comment Period End | 08/25/14
Final Rule | 07/00/15

Regulatory Flexibility Analysis Required: Yes.

Agency Contact: Kathy Hopkins, Procurement Analyst, DOD/GSA/NASA (FAR), 1800 F Street NW., Washington, DC 20405, Phone: 202 969-7226, Email: kathlyn.hopkins@gsa.gov.

RIN: 9000-AM75

260. Federal Acquisition Regulation (FAR); FAR Case 2014-022; Inflation Adjustment of Acquisition-Related Thresholds

Legal Authority: 40 U.S.C. 121(c); 10 U.S.C. ch 137; 51 U.S.C. 20113

Abstract: DoD, GSA, and NASA are issuing a final rule to amend the Federal Acquisition Regulation (FAR) to further implement 41 U.S.C. 1908, Inflation adjustment of acquisition-related dollar thresholds. This statute requires an adjustment every five years of acquisition-related thresholds for inflation using the Consumer Price Index for all urban consumers, except for the Construction Wage Rate Requirements statute (Davis-Bacon Act), Service Contract Labor Standards statute, and trade agreements thresholds. DoD, GSA, and NASA are also proposing to use the same methodology to adjust nonstatutory FAR acquisition-related thresholds in 2015.

Timetable:

Action | Date | FR Cite
NPRM | 11/25/14 | 79 FR 70141
NPRM Comment Period End | 01/26/15
Final Rule | 09/00/15

Regulatory Flexibility Analysis Required: Yes.

Agency Contact: Michael O. Jackson, Procurement Analyst, DOD/GSA/NASA (FAR), 1800 F Street NW., Washington, DC 20405, Phone: 202 208-4949, Email: michaelo.jackson@gsa.gov.

RIN: 9000-AM80

261. Federal Acquisition Regulation (FAR); FAR Case 2015-003; Establishing a Minimum Wage for Contractors

Legal Authority: 40 U.S.C. 121(c); 10 U.S.C. ch 137; 51 U.S.C. 20113

Abstract: DoD, GSA, and NASA are issuing a final rule amending the Federal Acquisition Regulation (FAR) to implement Executive Order 13658, Establishing a Minimum Wage for Contractors, and a final rule issued by the Department of Labor (DOL) at 29 CFR part 10. This case is included in the FAR retrospective review of existing regulations under Executive Order 13563. Additional information is located in the FAR final plan (2015), available at: https://www.acquisition.gov/.

Timetable:

Action | Date | FR Cite
Interim Final Rule | 12/15/14 | 79 FR 74544
Interim Final Rule Comment Period End | 02/13/15 |
Final Rule | 07/00/15 |

Regulatory Flexibility Analysis Required: Yes.

Agency Contact: Edward Loeb, Program Manager, DOD/GSA/NASA (FAR), 1800 F Street NW., Washington, DC 20405, Phone: 202 501-0650, Email: edward.loeb@gsa.gov.

RIN: 9000-AM82

262. • Federal Acquisition Regulation (FAR); FAR Case 2014-020; Clarification on Justification for Urgent Noncompetitive Awards Exceeding One Year

Legal Authority: 40 U.S.C. 121(c); 10 U.S.C. ch 137; 51 U.S.C. 20113

Abstract: DoD, GSA, and NASA are proposing to amend the Federal Acquisition Regulation to clarify that a determination of exceptional circumstances is needed when a noncompetitive contract awarded on the basis of unusual and compelling urgency exceeds one year, either at time of award or due to post-award modifications.

Timetable:

Action | Date | FR Cite
NPRM | 12/30/14 | 79 FR 78378
NPRM Comment Period End | 03/02/15 |
Final Rule | 08/00/15 |

Regulatory Flexibility Analysis Required: Yes.

Agency Contact: Michael O. Jackson, Procurement Analyst, DOD/GSA/NASA (FAR), 1800 F Street NW., Washington, DC 20405, Phone: 202 208-4949, Email: michaelo.jackson@gsa.gov.

RIN: 9000-AM86

263. • Federal Acquisition Regulation (FAR); FAR Case 2015-014; Prohibition on Providing Funds to the Enemy

Legal Authority: 40 U.S.C. 121(c); 10 U.S.C. ch 137; 51 U.S.C. 20113

Abstract: This interim rule amends the Federal Acquisition Regulation to implement sections 841, 842 and 843 of the National Defense Authorization Act for Fiscal Year 2015 (Pub. L. 113-291). Section 841 prohibits providing funds to the enemy. Section 842 provides additional access to records. Section 843 provides definitions.

Timetable:

Action | Date | FR Cite
Interim Final Rule | 08/00/15 |

Regulatory Flexibility Analysis Required: Yes.

Agency Contact: Cecelia L. Davis, Procurement Analyst, DOD/GSA/NASA (FAR), 1800 F Street NW., Washington, DC 20405, Phone: 202 219-0202, Email: cecelia.davis@gsa.gov.

RIN: 9000-AN03

264. • Federal Acquisition Regulation (FAR); FAR Case 2015-012; Contractor Employee Internal Confidentiality Agreements

Legal Authority: 40 U.S.C. 121(c); 10 U.S.C. ch 137; 51 U.S.C. 20113

Abstract: This interim rule revises the Federal Acquisition Regulation to implement section 743 of Division E, title VII, of the Consolidated and Further Continuing Appropriations Act of 2015 (Pub. L. 113-235) and successor provisions in subsequent appropriations acts (and as extended in continuing resolutions). Section 743 prohibits the use of funds appropriated or otherwise made available by Division E or any other Act for a contract, grant, or cooperative agreement with an entity that requires employees or subcontractors of such entity seeking to report fraud, waste, or abuse to sign internal confidentiality agreements or statements prohibiting or otherwise restricting such employees or subcontractors from lawfully reporting such waste, fraud, or abuse to a designated investigative or law enforcement representative of a Federal department or agency authorized to receive such information.

Timetable:

Action | Date | FR Cite
Interim Final Rule | 08/00/15 |

Regulatory Flexibility Analysis Required: Yes.

Agency Contact: Cecelia L. Davis, Procurement Analyst, DOD/GSA/NASA (FAR), 1800 F Street NW., Washington, DC 20405, Phone: 202 219-0202, Email: cecelia.davis@gsa.gov.

RIN: 9000-AN04

265. • Federal Acquisition Regulation (FAR); FAR Case 2015-011; Prohibition on Contracting With Corporations With Delinquent Taxes or a Felony Conviction

Legal Authority: 40 U.S.C. 121(c); 10 U.S.C. ch 137; 51 U.S.C. 20113

Abstract: This interim rule amends the Federal Acquisition Regulation to implement sections of the Consolidated and Further Continuing Appropriations Act of 2015, to prohibit the Federal Government from entering into a contract with any corporation having a delinquent Federal tax liability or a felony conviction under any Federal law, unless the agency has considered suspension or debarment of the corporation and has made a determination that this further action is not necessary to protect the interests of the Government.

Timetable:

Action | Date | FR Cite
Interim Final Rule | 08/00/15 |

Regulatory Flexibility Analysis Required: Yes.

Agency Contact: Cecelia L. Davis, Procurement Analyst, DOD/GSA/NASA (FAR), 1800 F Street NW., Washington, DC 20405, Phone: 202 219-0202, Email: cecelia.davis@gsa.gov.

RIN: 9000-AN05

DEPARTMENT OF DEFENSE/GENERAL SERVICES ADMINISTRATION/NATIONAL AERONAUTICS AND SPACE ADMINISTRATION (FAR)

Completed Actions

266. Federal Acquisition Regulation (FAR); FAR Case 2009-009; American Recovery and Reinvestment Act of 2009 (The Recovery Act)—Reporting Requirements

Legal Authority: 40 U.S.C. 121(c); 10 U.S.C. ch 137; 42 U.S.C. 2473(c)

Abstract: Section 627 of Division E of the Consolidated Appropriations Act, 2014 (Pub. L. 113-76), repealed the contractor reporting requirements that were in section 1512(c) of Division A of the American Recovery and Reinvestment Act of 2009 (Recovery Act) (Pub. L. 111-5). Due to the repeal of the Recovery Act reporting requirements, FAR Case 2009-009 was incorporated into FAR Case 2014-016.

Completed:

Action | Date | FR Cite
Withdrawn | 03/25/15 |

Regulatory Flexibility Analysis Required: Yes.

Agency Contact: Curtis Glover, Phone: 202 501-1448, Email: curtis.glover@gsa.gov.

RIN: 9000-AL21

267. Federal Acquisition Regulation (FAR); FAR Case 2010-008; Recovery Act Subcontract Reporting Procedures

Legal Authority: 40 U.S.C. 121(c); 10 U.S.C. ch 137; 42 U.S.C. 2473(c)

Abstract: Section 627 of Division E of the Consolidated Appropriations Act, 2014 (Pub. L. 113-76), repealed the contractor reporting requirements that were in section 1512(c) of Division A of the American Recovery and Reinvestment Act of 2009 (Recovery Act) (Pub. L. 111-5). Due to the repeal of the Recovery Act reporting requirements, FAR Case 2010-008 was incorporated into FAR Case 2014-016.

Completed:

Action | Date | FR Cite
Withdrawn | 03/25/15 |

Regulatory Flexibility Analysis Required: Yes.

Agency Contact: Curtis Glover, Phone: 202 501-1448, Email: curtis.glover@gsa.gov.

RIN: 9000-AL63

268. Federal Acquisition Regulation (FAR); FAR Case 2013-001; Ending Trafficking in Persons

Legal Authority: 40 U.S.C. 121(c); 10 U.S.C. ch 137; 51 U.S.C. 20113

Abstract: DoD, GSA, and NASA issued a final rule amending the Federal Acquisition Regulation (FAR) to strengthen protections against trafficking in persons in Federal contracts. These changes are intended to implement Executive Order 13627, entitled “Strengthening Protections Against Trafficking in Persons in Federal Contracts,” and title XVII of the National Defense Authorization Act for Fiscal Year 2013. This case is included in the FAR retrospective review of existing regulations under Executive Order 13563. Additional information is located in the FAR final plan (2015), available at: https://www.acquisition.gov/.

Completed:

Action | Date | FR Cite
Final Rule | 01/29/15 | 80 FR 4967
Final Rule Effective | 03/02/15 |

Regulatory Flexibility Analysis Required: Yes.

Agency Contact: Cecelia L. Davis, Phone: 202 219-0202, Email: cecelia.davis@gsa.gov.

RIN: 9000-AM55

269. Federal Acquisition Regulation (FAR); FAR Case 2012-032; Higher-Level Contract Quality Requirements

Legal Authority: 40 U.S.C. 121(c); 10 U.S.C. ch 137; 51 U.S.C. 20113

Abstract: DoD, GSA, and NASA issued a final rule amending the Federal Acquisition Regulation to clarify when to use higher-level quality standards in solicitations and contracts. The rule also updates the examples of higher-level quality standards by removing obsolete standards and adding new industry standards that pertain to quality assurance for avoidance of counterfeit items.

Completed:

Action | Date | FR Cite
Final Rule | 12/26/14 | 79 FR 70344
Final Rule Effective | 12/26/14 |

Regulatory Flexibility Analysis Required: Yes.

Agency Contact: Edward Loeb, Phone: 202 501-0650, Email: edward.loeb@gsa.gov.

RIN: 9000-AM65

270. Federal Acquisition Regulation (FAR); FAR Case 2014-006; Year Format

Legal Authority: 40 U.S.C. 121(c); 10 U.S.C. ch 137; 51 U.S.C. 20113

Abstract: DoD, GSA, and NASA issued a final rule to amend the Federal Acquisition Regulation (FAR) to delete regulations relating to the year 2000 compliance. This case is included in the FAR retrospective review of existing regulations under Executive Order 13563. Additional information is located in the FAR final plan (2015), available at: https://www.acquisition.gov/.

Completed:

Action | Date | FR Cite
Final Rule | 12/26/14 | 79 FR 70343
Final Rule Effective | 12/26/14 |

Regulatory Flexibility Analysis Required: Yes.

Agency Contact: Edward Loeb, Phone: 202 501-0650, Email: edward.loeb@gsa.gov.

RIN: 9000-AM72

271. Federal Acquisition Regulation (FAR); FAR Case 2014-001; Incorporating Section K in Contracts

Legal Authority: 40 U.S.C. 121(c); 10 U.S.C. ch 137; 51 U.S.C. 20113

Abstract: DoD, GSA, and NASA issued a proposed rule to amend the Federal Acquisition Regulation to standardize the incorporation by reference of representations and certifications in contracts.

Completed:

Action | Date | FR Cite
Final Rule | 12/26/14 | 79 FR 70341
Final Rule Effective | 12/26/14 |

Regulatory Flexibility Analysis Required: Yes.

Agency Contact: Curtis Glover, Phone: 202 501-1448, Email: curtis.glover@gsa.gov.

RIN: 9000-AM78

[FR Doc. 2015-14372 Filed 6-17-15; 8:45 am]

BILLING CODE 6820-EP-P